DEPARTMENT OF TRANSPORTATION

Federal Aviation Administration

14 CFR Part 97

[Docket No. 30335; Amdt. No. 3028]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective October 24, 2002. The compliance date for each SIAP is specified in the amendatory provisions.

The incorporation by reference of certain publications listed in the regulations is approved by the Director of the Federal Register as of October 24, 2002.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

4. The Office of the Federal Register, 800 North Capitol Street, NW., Suite 700, Washington, DC

For Purchase—Individual SIAP copies my be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce. I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on October 11, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

§§ 97.23, 97.25, 97.27, 97.29, 97.31, 97.33, and 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * *Effective Upon Publication

FDC Date | State | City | Airport | FDC No. | Subject
09/05/02 | TX | Dallas | Addison | 2/9363 | ILS Rwy 15, Amdt 9A
09/20/02 | TX | Del Rio | Del Rio Intl | 2/9902 | LOC 13, Orig-A
09/23/02 | TX | Corpus Christi | Corpus Christi | 2/9952 | ILS Rwy 13, Amdt 26A
09/23/02 | TX | Corpus Christi | Corpus Christi | 2/9954 | NDB Rwy 13, Amdt 25
09/23/02 | FM | Yap Island | Yap Intl | 2/9977 | NDB Rwy 7, Amdt 1
09/25/02 | TX | Houston | Sugar Land Muni Hull Field | 2/0115 | NDB Rwy 35, Amdt 15
09/25/02 | WI | Madison | Dane County Regional Truax Field | 2/0136 | VOR Rwy 13, Orig
09/26/02 | CA | Sacramento | Sacramento Mather | 2/0179 | RNAV (GPS) Rwy 4R, Orig
09/27/02 | FL | Sarasota(Bradenton) | Sarasota/Bradenton Intl | 2/0201 | ILS Rwy 14, Amdt 4
09/27/02 | FL | Sarasota(Bradenton) | Sarasota/Bradenton Intl | 2/0202 | ILS Rwy 32, Amdt 5
09/27/02 | CA | Palm Springs | Bermuda Dunes | 2/0208 | VOR-A, Orig
09/27/02 | TN | Knoxville | McGhee Tyson | 2/0218 | ILS Rwy 5L, Amdt 7A
10/02/02 | OR | Aurora | Aurora State | 2/0339 | GPS Rwy 17, Amdt 1
10/02/02 | OR | Aurora | Aurora State | 2/0340 | GPS Rwy 35, Amdt 1A
10/02/02 | OR | Aurora | Aurora State | 2/0341 | LOC Rwy 17, Orig-A
10/02/02 | OK | Oklahoma City | Will Rogers World | 2/0362 | Radar, Amdt 20
10/02/02 | OK | Oklahoma City | Will Rogers World | 2/0363 | ILS Rwy 17R, Amdt 9D
10/02/02 | OK | Oklahoma City | Will Rogers World | 2/0364 | ILS Rwy 17L,. Orig-D
10/02/02 | OK | Oklahoma City | Will Rogers World | 2/0365 | NDB Rwy 35R, Amdt 5C
10/02/02 | OK | Oklahoma City | Will Rogers World | 2/0366 | ILS Rwy 35R, Amdt 8D
10/02/02 | OK | Oklahoma City | Will Rogers World | 2/0367 | NDB Rwy 17R, Amdt 24B
10/02/02 | GA | Rome | Richard B. Russell | 2/0382 | VOR/DME or GPS Rwy 1, Amdt 8B
10/03/02 | TX | Houston | Ellington Field | 2/0414 | ILS Rwy 22, Amdt 3B
10/03/02 | WY | Casper | Natrona County Intl | 2/0443 | ILS Rwy 3, Amdt 5A
10/03/02 | TN | Knoxville | Knoxville Downtown Island | 2/0446 | LOC Rwy 26, Amdt 3A
10/03/02 | AK | Scammon Bay | Scammon Bay | 2/0470 | GPS Rwy 10, Orig
10/03/02 | AK | Scammon Bay | Scammon Bay | 2/0471 | GPS Rwy 28, Orig
10/03/02 | TX | Denton | Denton Muni | 2/0478 | GPS Rwy 35, Amdt 1
10/03/02 | TX | Muleshoe | Muleshoe Muni | 2/0489 | VOR/DME-A, Amdt 1
10/03/02 | CA | Sacramento | McClellan Airfield | 2/0497 | ILS Rwy 16, Orig-B
10/04/02 | AR | Batesville | Batesville Regional | 2/0517 | NDB or GPS Rwy 7, Amdt 5C
10/04/02 | NH | Manchester | Manchester | 2/0521 | ILS Rwy 6, Orig-A
10/04/02 | WA | Spokane | Spokane Intl | 2/0561 | ILS Rwy 3 (Cat I, II, III), Amdt 4
10/04/02 | WA | Spokane | Spokane Intl | 2/0562 | RNAV (GPS) Rwy 3, Orig-B
10/04/02 | MA | Westfield | Barnes Muni | 2/0576 | GPS Rwy 2, Orig
10/04/02 | MA | Westfield | Barnes Muni | 2/0577 | GPS Rwy 20, Orig
10/04/02 | MA | Westfield | Barnes Muni | 2/0578 | ILS Rwy 20, Amdt 5
10/04/02 | MA | Westfield | Barnes Muni | 2/0579 | NDB Rwy 20, Amdt 15
10/04/02 | MA | Westfield | Barnes Muni | 2/0580 | VOR Rwy 20, Amdt 20
10/04/02 | MA | Westfield | Barnes Muni | 2/0581 | VOR Or Tacan Rwy 2, Amdt 4
10/04/02 | OK | Oklahoma City | Will Rogers World | 2/0587 | LOC BC Rwy 35L, Amdt 10D
10/07/02 | WA | Spokane | Spokane Intl | 2/0626 | VOR Rwy 3, Amdt 12
10/07/02 | WA | Seattle | Boeing Field/King County Intl | 2/0627 | ILS Rwy 13R, Amdt 28A
10/07/02 | WA | Seattle | Boeing Field/King County Intl | 2/0627 | ILS Rwy 13R, Amdt 28A
10/07/02 | MS | Jackson | Hawkins Field | 2/0631 | NDB Rwy 16, Amdt 5

[FR Doc. 02-27088 Filed 10-23-02; 8:45 am]

BILLING CODE 4910-13-M